COURT SERVICES AND OFFENDER SUPERVISION AGENCY FOR THE DISTRICT OF COLUMBIA

28 CFR Part 804

[CSOSA-0008-P]

RIN 3225-AA06

Acceptance of Gifts

AGENCY: Court Services and Offender Supervision Agency for the District of Columbia.

ACTION: Proposed rule.

SUMMARY: The Court Services and Offender Supervision Agency for the District of Columbia (CSOSA) proposes to adopt regulations on the acceptance or use of gifts by itself and by the District of Columbia Pretrial Services Agency (PSA), an independent entity within CSOSA. In accordance with specific statutory authority, CSOSA and PSA may accept and use gifts in the form of in-kind contributions of space and hospitality for the purpose of supporting offender and defendant programs and of equipment and vocational training services to educate and train offenders and defendants. These regulations delegate authority to the Director of PSA with respect to gifts supporting defendant programs and vocational training services, establish procedures for the public to follow when offering a gift, establish criteria for accepting and using gifts, and establish procedures for audit and public inspection of records pertaining to the acceptance and use of gifts. These regulations are intended to enhance CSOSA's ability to provide appropriate treatment and support services that can assist defendants and offenders in reintegrating into the community.

DATES: Comments due by June 23, 2003.

ADDRESSES: Office of the General Counsel, CSOSA, Room 1253, 633 Indiana Avenue, NW., Washington, DC 20004.

FOR FURTHER INFORMATION CONTACT: Roy Nanovic, Records Manager (telephone: (202) 220-5359; e-mail: roy.nanovic@csosa.gov).

SUPPLEMENTARY INFORMATION: CSOSA proposes to adopt regulations (28 CFR part 804) on the acceptance of use of gifts by itself and by PSA, an independent entity within CSOSA.

Generally speaking, federal agencies are prohibited from accepting or soliciting gifts, donations, contributions, and similar items from the public. CSOSA's Director, however, has been granted specific authority by Congress to accept and use gifts in the form of in-kind contributions of space and hospitality to support offender and defendant programs and to enable the Agency to provide vocational training services to educate and train offenders and defendants (District of Columbia Appropriations Act of 2002, Public Law 107-96, 115 Stat. 923, 931).

These implementing regulations delegate authority to the Director of PSA with respect to gifts supporting defendant programs and vocational training services. The regulations also establish procedures for the public to follow when offering a gift, criteria for accepting and using gifts, and procedures for audit and public inspection of records pertaining to the acceptance and use of gifts. In establishing such procedures, CSOSA seeks to ensure that Agency employees may process requests for donations and remain in compliance with the general federal prohibition on solicitation of gifts.

Matters of Regulatory Procedure

Administrative Procedure Act

Interested persons may participate in this proposed rulemaking by submitting data, views, or arguments in writing or by e-mailing the agency at the addresses given above in the ADDRESSES and FOR FURTHER INFORMATION CONTACT captions. Comments received during the comment period will be considered before final action is taken. Comments received after the expiration of the comment period will be considered to the extent practicable. All comments received remain on file for public inspection at the above address. The proposed rule may be changed in light of the comments received. We will not be holding oral hearings on this proceeding.

Executive Order 12866

This interim rule has been determined to be significant under Executive Order 12866 and has been reviewed by the Office of Management and Budget (OMB).

Executive Order 13132

This rule will not have substantial direct effects on the States, on the relationship between the national government and the States, or on distribution of power and responsibilities among the various levels of government. Therefore, in accordance with Executive Order 13132, the Director of CSOSA has determined that this rule does not have sufficient federalism implications to warrant the preparation of a Federalism Assessment.

Regulatory Flexibility Act

The Director of CSOSA, in accordance with the Regulatory Flexibility Act (5 U.S.C. 605(b)), has reviewed this rule and by approving it certifies that this rule will not have a significant economic impact upon a substantial number of small entities. This rule pertains to agency management, and its economic impact is limited to the agency's appropriated funds.

Unfunded Mandates Reform Act of 1995

This rule will not result in the expenditure by State, local and tribal governments, in the aggregate, or by the private sector, of $100,000,000 or more in any one year, and it will not significantly or uniquely affect small governments. Therefore, the Director of CSOSA has determined that no actions are necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Plain Language Instructions

We want to make CSOSA's documents easy to read and understand. If you have suggestions on how to improve the clarity of these regulations, write, e-mail, or call Roy Nanovic at the address or telephone number given above in the ADDRESSES and FOR FURTHER INFORMATION CONTACT captions.

List of Subjects in 28 CFR Part 804

Authority delegations (Government agencies); Government Property; Probation and Parole.

Paul A. Quander, Jr.,
Director.

Accordingly, we propose to amend chapter VIII, Title 28 of the Code of Federal Regulations by adding a new part 804 as set forth below.

PART 804—ACCEPTANCE OF GIFTS

Sec.
804.1 Purpose.
804.2 Delegation of authority.
804.3 Restrictions.
804.4 Submission and approval.
804.5 Audit and public inspection.

Authority: 5 U.S.C. 301; Public Law 107-96, 115 Stat. 923, 931.

§ 804.1 Purpose.

By statute, the Director of the Court Services and Offender Supervision Agency (CSOSA or Agency) is authorized to accept and use gifts in the form of in-kind contributions of space and hospitality to support offender and defendant programs, and of equipment and vocational training services to educate and train offenders and defendants. The purpose of this part is to:

(a) Inform the public of the procedures to follow when offering a gift;

(b) Establish criteria for accepting and using gifts;

(c) Establish procedures for audit and public inspection of records pertaining to the acceptance and use of gifts; and

(d) Delegate gift acceptance authority to the Director of the Pretrial Services Agency (PSA or Agency).

§ 804.2 Delegation of authority.

The Director of CSOSA hereby delegates to the Director of PSA the authority to accept and use gifts in the form of in-kind contributions of space and hospitality to support defendant programs, and of equipment and vocational training services to educate and train defendants in accordance with the requirements of this part. This delegation of authority may not be further delegated.

§ 804.3 Restrictions.

(a) The Agency is not authorized to accept gifts of money, stock, bonds, personal or real property, or devises or bequests of such items, except as provided in this part.

(b) Agency employees may not solicit any type of gift to the Agency.

§ 804.4 Submission and approval.

(a) Offender programs and equipment and vocational training services. (1) Any person or organization wishing to donate as a gift in-kind contributions of space or hospitality to support offender programs, or equipment or vocational training services to educate and train offenders may submit the following information in writing to the Agency's Ethics Officer in the Office of the General Counsel:

(i) The name of the person or organization offering the gift;

(ii) A description of the gift;

(iii) The estimated value of the gift;

(iv) Any restrictions on the gift placed by the donor; and

(v) A signed statement that the gift is unsolicited.

(2) The Director, after consultation with the Agency's Ethics Officer, shall determine whether to accept or reject the gift.

(3) CSOSA staff shall advise the person offering the gift of the Agency's determination, including, if applicable, the reason for rejection. Reasons for rejecting a gift include findings that:

(i) There is a conflict of interest in accepting the gift;

(ii) Acceptance of the gift is otherwise unlawful or would create the appearance of impropriety;

(iii) Acceptance of the gift would obligate the Agency to an unbudgeted expenditure of funds; or

(iv) Operation of the program, equipment, or vocational training services would not be practicable.

(b) Defendant programs and equipment and vocational training services. (1) Any person or organization wishing to donate as a gift in-kind contributions of space or hospitality to support defendant programs, or equipment or vocational training services to educate and train defendants may submit the following information in writing to the Agency's Ethics Officer in the Office of the General Counsel:

(i) The name of the person or organization offering the gift;

(ii) A description of the gift;

(iii) The estimated value of the gift;

(iv) Any restrictions on the gift placed by the donor; and

(v) A signed statement that the gift is unsolicited.

(2) The General Counsel shall forward the request to PSA's Director with a recommendation whether to accept or reject the gift.

(3) PSA staff shall advise the person offering the gift of the Agency's determination, including the reason for rejection. Reasons for rejecting a gift include findings that:

(i) There is a conflict of interest in accepting the gift;

(ii) Acceptance of the gift is otherwise unlawful or would create the appearance of impropriety;

(iii) Acceptance of the gift would obligate the Agency to an unbudgeted expenditure of funds; or

(iv) Operation of the program, equipment, or vocational training services would not be practicable.

§ 804.5 Audit and public inspection.

(a) Records regarding the acceptance and use of gifts shall be made available for Federal Government audit.

(b) Public inspection of records regarding the acceptance and use of gifts shall be afforded through Freedom of Information Act requests (see 28 CFR part 802).

[FR Doc. 03-9937 Filed 4-21-03; 8:45 am]

BILLING CODE 3129-01-P